DEPARTMENT OF EDUCATION

RIN 1865-ZA00

Office of Safe and Drug-Free Schools—Mentoring Programs

AGENCY: Office of Safe and Drug-Free Schools, Department of Education.

ACTION: Notice of final priorities, requirements, and selection criteria under the Mentoring Program.

SUMMARY: The Deputy Under Secretary for Safe and Drug-Free Schools announces final priorities, requirements, and selection criteria under the Mentoring Program. The Deputy Under Secretary will use these priorities, requirements, and selection criteria for a competition in FY 2004 and may use them in later years.

DATES: Effective Date: These priorities are effective July 7, 2004.

FOR FURTHER INFORMATION CONTACT: Earl Myers, U.S. Department of Education, 400 Maryland Avenue, SW., room 3E254, Washington, DC 20202-6450. Telephone: (202) 708-8846. E-mail address: earl.myers@ed.gov, or

Bryan Williams, U.S. Department of Education, 400 Maryland Avenue, SW., room 3E259, Washington, DC 20202-6450. Telephone: (202) 260-2391. E-mail address: bryan.williams@ed.gov.

If you use a telecommunications device for the deaf (TDD), you may call the Federal Information Relay Service (FIRS) at 1-800-877-8339.

Individuals with disabilities may obtain this document in an alternative format (e.g., Braille, large print, audiotape, or computer diskette) on request to the contact persons listed under FOR FURTHER INFORMATION CONTACT.

SUPPLEMENTARY INFORMATION: We published a notice of proposed priorities, requirements, and selection criteria for this program in the Federal Register on March 15, 2004 (69 FR 12138).

In response to the comments received, this notice of final priorities, requirements, and selection criteria contains significant changes from the notice of proposed priorities. We have revised the proposed definition of school-based mentoring; added a new factor to the selection criterion “Quality of the Project Design” and revised the point distribution within that criterion; and changed the proposed Application Requirement for community-based organizations. We fully explain these changes in the Appendix—Analysis of Comments and Changes found elsewhere in this notice.

Note: This notice does not solicit applications. In any year in which we choose to use these final priorities, requirements, and selection criteria, we invite applications through a notice in the Federal Register. A notice inviting applications for new awards under this program for FY 2004 is published elsewhere in this issue of the Federal Register.

Absolute Priority

This priority supports projects that address the academic and social needs of children with the greatest need through school-based mentoring programs and activities and provide these students with mentors. These programs and activities must serve children with the greatest need in one or more grades 4 through 8 living in rural areas, high-crime areas, or troubled home environments, or who attend schools with violence problems.

Competitive Preference Priority

We will award five additional points to a consortium of eligible applicants that includes either: (a) At least one local educational agency (LEA) and at least one community-based organization (CBO) that is not a school and that provides services to youth and families in the community; or (b) at least one private school that qualifies as a nonprofit CBO and at least one other CBO that is not a school, and that provides services to youth and families in the community.

The consortium must designate one member of the group to apply for the grant, unless the consortium is itself eligible as a partnership between a LEA and a nonprofit CBO.

To receive this competitive preference, the applicant must clearly identify the agencies that comprise the consortium and must include a detailed plan of their working relationship and of the activities that each member will perform, including a project budget that reflects the contractual disbursements to the members of the consortium. For the purpose of this priority, a “consortium” means a group application in accordance with the provisions of 34 CFR 75.127 through 75.129.

Eligibility Requirements for All Applicants

To be eligible for funding, an applicant must include in its application an assurance that it will: (1) Establish clear, measurable performance goals; and (2) collect and report to the Department data related to the established Government Performance and Results Act (GPRA) performance indicators for the Mentoring Programs grant competition. We will reject any application that does not contain this assurance.

Application Requirements for CBOs

To be eligible for funding, each CBO must include in its application an assurance that: (a) It is an eligible applicant under the definitions provided in the application package; (b) timely and meaningful consultation with an LEA or private school has taken place during the design and/or development of the proposed program; (c) LEA or private school staff will participate in the identification and referral of students to the CBO's proposed program; and (d) the LEA or private school will participate in the collection of data related to the established GPRA performance measures for the Mentoring Programs grant competition.

Definitions

(1) The term “school-based mentoring” means mentoring activities that are closely coordinated with schools, including involving teachers, counselors, and other school staff in the identification and referral of students, and that are focused on improved academic achievement, reduced student referrals for disciplinary reasons, increased bonding to school, and positive youth development. (2) The term “core academic subjects” means English, reading or language arts, mathematics, science, foreign languages, civics and government, economics, arts, history, and geography.

Performance Measures

We have identified the following key GPRA performance measures for assessing the effectiveness of this program: (1) The percentage of student/mentor matches that are sustained for a period of twelve months will increase; (2) The percentage of mentored students who demonstrate improvement in core academic subjects as measured by grade point average after 12 months will increase; and (3) The percentage of mentored students who have unexcused absences from school will decrease.

Selection Criteria

The Deputy Under Secretary will use the following selection criteria to evaluate applications under this competition. The maximum score for all of these criteria is 100 points. The maximum score for each criterion is indicated in parentheses.

(1) Need for the Project. (10 points)

In determining the need for the proposed project, the following factor is considered:

The magnitude and severity of problems that will be addressed by the project, including the number of youth to be served who: (i) Are at risk of educational failure or dropping out of school, (ii) are involved in criminal, delinquent, or gang activities, or (iii) lack strong, positive role models. (10 points)

(2) Quality of the Project Design. (30 points)

In determining the quality of the design of the proposed project, the following factors are considered:

(a) The degree to which the applicant proposes a high-quality mentoring project that provides for, but is not limited to: (1) A low student-to-mentor ratio (one-to-one, where practicable), (2) frequent contacts between mentors and the children they mentor; and (3) mentoring relationships of 12 months or more duration. (10 points)

(b) The quality of mentoring services that will be provided, including the quality of services designed to improve academic achievement in core academic subjects, strengthen school bonding (i.e., positive commitment and attachment to school), and promote pro-social norms and behaviors, and the resources, if any, that the eligible entity will dedicate to providing children with opportunities for job training or postsecondary education. (5 points)

(c) The capability of each eligible entity to implement its mentoring program effectively, and the degree to which parents, teachers, community-based organizations, and the local community have participated, or will participate, in the design and implementation of the proposed mentoring project. (5 points)

(d) The extent to which the design of the proposed project includes a thorough, high-quality review of the relevant literature, including new research, a high-quality plan for project implementation, and the use of appropriate methodological tools to ensure successful achievement of project objectives. (10 points)

(3) Quality of the Management Plan. (35 points)

In determining the quality of the management plan, the following factors are considered:

(a) The quality of the system that will be used to manage and monitor mentor reference checks, including, at a minimum, child and domestic abuse record checks and criminal background checks. (10 points)

(b) The quality of the training that will be provided to mentors, including orientation, follow-up, and support of each match between mentor and child. (10 points)

(c) The quality of the applicant's plan to recruit and retain mentors, including outreach, criteria for recruiting mentors, terminating unsuccessful matches, and replacing mentors, if necessary. (5 points)

(d) The extent to which the applicant provides a comprehensive plan to match mentors with students, based on the needs of the children, including criteria for matches, and the extent to which teachers, counselors, and other school staff are involved. (5 points)

(e) The extent to which the applicant demonstrates the ability to carefully monitor and support the mentoring matches, including terminating matches when necessary and reassigning students to new mentors, and the degree to which the mentoring program will continue to serve children from the 9th grade through graduation from secondary school, as needed. (5 points)

(4) Quality of Project Personnel. (10 points)

In determining the quality of project personnel, the Secretary considers:

The qualifications and relevant training of key staff, including time commitments, and experience in mentoring services and case management. (10 points)

(5) Quality of the Project Evaluation. (15 points)

In determining the quality of the evaluation, the following factors are considered:

(a) The extent to which the methods of evaluation will provide performance feedback to the Department, grantees, and mentors, and permit periodic assessment of progress toward achieving intended outcomes, including the GPRA performance measures for the Mentoring Programs grant competition. (5 points)

(b) The extent to which the methods of evaluation include the use of objective performance measures that are clearly related to the intended outcomes of the project and will produce quantitative and qualitative data on the GPRA performance measures for the Mentoring Programs grant competition. (10 points)

Executive Order 12866

This notice of final priorities, requirements, and selection criteria has been reviewed in accordance with Executive Order 12866. Under the terms of the order, we have assessed the potential costs and benefits of this regulatory action.

The potential costs associated with the notice of final priorities, requirements, and selection criteria are those resulting from statutory requirements and those we have determined as necessary for administering this program effectively and efficiently.

In assessing the potential costs and benefits—both quantitative and qualitative—of this notice of final priorities, requirements, definitions, and selection criteria we have determined that the benefits of the final priorities justify the costs.

We summarized the costs and benefits in the notice of proposed priorities, requirements, and selection criteria.

Intergovernmental Review

This program is subject to Executive Order 12372 and the regulations in 34 CFR Part 79. One of the objectives of the Executive order is to foster an intergovernmental partnership and a strengthened federalism. The Executive order relies on processes developed by State and local governments for coordination and review of proposed Federal financial assistance.

This document provides early notification of our specific plans and actions for this program.

Applicable Regulations: 34 CFR parts 74, 75, 77, 79, 80, 81, 82, 84, 85, 86, 97, 98, 99 and 299.

Note: The regulations in 34 CFR Part 86 apply to institutions of higher education only.

Electronic Access To This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO) toll free at 1-888-293-6498; or in the Washington, DC, area at (202) 512-1530.

You may also view this document in text or PDF at the following site: http://www.ed.gov/programs/dvpmentoring/applicant.html.

Note: The official version of this document is the document published in the Federal Register. Free Internet access to the official edition of the Federal Register and the Code of Federal Regulations is available on GPO Access at: http://www.gpoaccess.gov/nara/index.html.

(Catalog of Federal Domestic Assistance Number: 84.184B Office of Safe and Drug-Free Schools—Mentoring Programs)

Program Authority: 20 U.S.C. 7140.

Dated: May 26, 2004.
Deborah A. Price,
Deputy Under Secretary for Safe and Drug-Free Schools.

Appendix—Analysis of Comments and Changes

In response to the invitation in the notice of proposed priorities, requirements, and selection criteria, 182 parties submitted comments. An analysis of the comments and of any changes since publication of the notice of proposed priorities, requirements, and selection criteria follows, grouped by major issues according to subject.

Generally, we do not address technical and other minor changes, and suggested changes we are not authorized to make under the applicable statutory authority.

Absolute Priority

Comment: Over 150 commenters stated that the Department should not limit the program to school-based mentoring programs.

Discussion: The proposed priority is consistent with the program statute, which directs the Secretary to give priority to school-based mentoring programs.

Change: To allow for greater flexibility, we have revised the definition of “school-based mentoring” to mean mentoring activities that are closely coordinated with schools, including involving teachers, counselors, and other school staff in the identification and referral of students, and that are focused on improved academic achievement, reduced student referrals for disciplinary reasons, increased bonding to school, and positive youth development.

Comment: Five commenters supported limiting the priority to school-based mentoring.

Discussion: We agree that school-based mentoring is an effective strategy to address the statutory goals of the program.

Change: None.

Comment: Four commenters recommended that the Department not limit the program to students in grades 4 through 8.

Discussion: The transition from childhood to adolescence is a particularly critical developmental time in a young person's life. Children often initiate harmful behaviors, such as using alcohol, tobacco, and other drugs, in the middle school years, and one consequence of this early initiation is that they are more likely to develop future patterns of harmful behavior. Given the need for additional support during this vulnerable time, we believe that it is beneficial to focus prevention strategies on youth making the transition from middle school to high school.

Change: None.

Comment: One commenter stated that we should target schools with high dropout rates, as well as high rates of students eligible for free and reduced lunch, and low-income areas.

Discussion: Our target population is consistent with the program statute, which requires the Secretary to give priority to each eligible entity that serves children with the greatest need living in rural areas, high-crime areas, or troubled home environments, or who attend schools with violence problems.

Change: None.

Comment: One commenter stated that it is not always an improvement to build on the infrastructure and support available in school settings. The commenter contended that community-based organizations also have infrastructure and support that can be built upon while allowing CBOs to specialize in the area of focus: mentoring.

Discussion: We agree that effective mentoring can occur in a variety of settings. In response to the statutory requirement to focus on youth who are most at risk of educational failure, dropping out of school, or involvement in criminal or delinquent activities or who lack strong positive role models, we have determined that the focus of this program should be on school-based mentoring programs.

Change: As discussed elsewhere in this Analysis of Comments and Changes section, to allow for greater flexibility, we have revised the definition of “school-based mentoring.”

Comment: One commenter questioned why we are focusing services on youth who are most at risk of educational failure, dropping out of school, or involvement in criminal or delinquent activities, or who lack strong positive role models when mentoring research consistently demonstrates that mentoring works when it is used as prevention.

Discussion: Our focus is dictated by the statutory purpose of the Mentoring Programs as stated in section 4130 of the Elementary and Secondary Education Act of 1965, as amended. The purpose is to make assistance available to promote mentoring programs for children with greatest need, meaning a child who is at risk of educational failure, dropping out of school, or involvement in criminal or delinquent activities, or who lacks strong positive role models.

Change: None.

Comment: One commenter objected to our goal of sustaining mentoring matches for 12 months or more and encourages us to use six months as the standard.

Discussion: The program statute directs us to take into consideration the degree to which the eligible entity can ensure that mentors will develop longstanding relationships with the children they mentor. Preliminary findings from those who are involved in mentoring strongly suggest that duration is a critical factor to the success of any mentoring relationship, and we do not believe that a period of less than 12 months is of sufficient duration to qualify as a longstanding relationship.

Change: None.

Comment: One commenter noted that it would be a mistake to force projects to focus primarily on academic needs of children.

Discussion: The absolute priority requires applicants to focus on both the academic and social needs of children.

Change: None.

Competitive Preference Priority

Comment: Four commenters recommended that we give a competitive preference priority to novice applicants.

Discussion: A competitive preference was offered for novice applicants in the mentoring program competition in 2002. This year the competitive preference priority will award five additional points to a consortium of eligible applicants that includes either: (a) At least one LEA and at least one CBO that is not a school and that provides services to youth and families in the community; or (b) at least one private school that qualifies as a nonprofit CBO and at least one CBO that is not a school and that provides services to youth and families in the community.

We hope that this collaborative approach will result in diverse and effective mentoring programs rooted in the community and able to call upon multiple sources of support. Novice applicants may still qualify for the competitive preference points by entering into partnerships as described.

Change: None.

Comment: One commenter stated that partnering with an LEA places an administrative burden on community-based organizations, and recommended that the competitive preference priority be revised to allow community-based organizations the option to partner with a school within an LEA.

Discussion: To qualify as a consortium, a group must be comprised of entities that are eligible applicants under the program. Under the authorizing statute for Mentoring Programs, only local educational agencies and nonprofit, community-based organizations are eligible applicants. Schools within LEAs are not eligible applicants.

Change: None.

Comment: One commenter objected to the competitive preference for consortia and noted that many CBOs can provide quality mentoring services without entering into partnerships with LEAs.

Discussion: Community-based organizations are not required to enter into partnerships with LEAs to be eligible for funding. If they choose to do so, they are eligible for an additional five points under the competitive preference priority.

Change: None.

Eligibility Requirements

Comment: One commenter proposed, as an eligibility requirement, that all applicants provide statistics to show a decrease in out-of-school suspensions.

Discussion: We expect that one outcome of effective mentoring programs will be a decrease in suspensions from school. We do not think, however, that applicants need to demonstrate, in advance of receiving a grant, that this reduction has already occurred.

Change: None.

Application Requirements for CBOs

Comment: One commenter stated that each community-based organization that is eligible to apply for funding should have the option to submit a letter of agreement to participate, either from an LEA or from a single school.

Discussion: Because the focus of the program is school-based mentoring, it is necessary to ensure that all applicants have the appropriate authorization to carry out their program in conjunction with a school.

Change: We have revised the Application Requirements for Community-based Organizations to require each applicant to provide an assurance that: (a) It is an eligible applicant under the definitions provided in the application package; (b) timely and meaningful consultation with an LEA or private school has taken place during the design and/or development of the proposed program; (c) LEA or private school staff will participate in the identification and referral of students to the CBO's proposed program; and (d) the LEA or private school will participate in the collection of data related to the established GPRA performance measures for the Mentoring Programs grant competition.

Definitions

Comment: One party recommended that transitional youth be included as a focus of the program, including youth ages 17-21.

Discussion: The program statute limits program services to youth that have not yet graduated from secondary school. Youth that are beyond this age are not eligible.

Change: None.

Comment: One commenter suggested adding the following characteristics to the definition of at-risk youth: emotionally depressed, uninspired intellectually, and those trying to survive desperate living conditions.

Discussion: This program is designed to assist children with the greatest need. The definition of a child with the greatest need is provided in the statute authorizing this program.

Change: None.

Comment: Five commenters recommended changes to the definition of “school-based mentoring.” One recommended that the definition include mentoring that is initiated at and accountable to a school site and that has a declared academic goal (or outcomes). Another suggested that mentoring be permitted at CBO training facilities and on field trips. A third commenter asked that mentoring programs not be restricted to activities on school grounds. The fourth commenter recommended revising the definition of school-based mentoring to say “including activities on school grounds.” The last commenter recommends that the definition of school-based mentoring be changed to uncouple it from “site-based mentoring.”

Discussion: We concur with the recommendations to allow greater flexibility in the location of program activities.

Change: As discussed elsewhere in this Analysis of Comments and Changes section, we have revised the definition of the term “school-based mentoring” to provide more flexibility for mentoring services.

Comment: One commenter stated that a conflict in the priorities is created by requiring activities to occur on school grounds and also requiring them to continue for at least 12 months. This will increase the administrative burden placed on schools by requiring them to stay open for mentoring activities during the summer months.

Discussion: We have revised the definition of school-based mentoring to allow applicants greater flexibility in implementing program activities at locations other than school grounds.

Change: The definition of the term “school-based mentoring” has been revised as described elsewhere in this Analysis of Comments and Changes section of this notice.

Performance Measures

Comment: One commenter recommended that the Department place less emphasis on academic performance in the GPRA performance measures for the program.

Discussion: One of the statutory purposes of the Mentoring Programs is to improve the academic performance of children with the greatest need. Therefore, we have determined that academic improvement is a key performance measure for assessing the effectiveness of the Mentoring Programs.

Change: None.

Comments: One commenter recommended that the GPRA performance measure on student/mentor matches be revised from a period of time of twelve months to a period of time of nine months or longer.

Discussion: Preliminary evidence from individuals who are involved in mentoring strongly suggests that one characteristic of positive mentoring relationships is significant duration. Therefore, while the academic school year in most parts of the country lasts nine months, applicants will be encouraged to propose programs that will result in mentoring relationships of significant duration, meaning those that last at least 12 months. Our view is that relationships sustained for a period of 12 months or longer is a key performance measure for assessing the effectiveness of the Mentoring Program.

Change: None.

Comment: One commenter noted that the 12-month tracking requirement could present a challenge in districts where students tend to be very transient.

Discussion: We agree that potential transience is a factor that can affect results. However we believe that building longstanding relationships, meaning those that last at least 12 months, is an appropriate goal and one that is consistent with the findings from the research on mentoring.

Change: None.

Comment: One commenter proposed that ED clarify whether “unexcused absences” means unexcused absence from school or from mentoring meetings.

Discussion: We intend this term to mean unexcused absence from school.

Change: We have revised the performance measure to clarify the meaning of unexcused absences.

Comment: One commenter recommended adding “an increased percentage of students develop positive attitudes toward school/learning” and “an increased percentage of students develop higher levels of self-confidence.”

Discussion: These characteristics are usually associated with sustained mentoring matches and improvements in academic achievement; therefore, we do not think it necessary to include them as specific elements within the performance measures.

Change: None.

Comment: One commenter recommended developing optional GPRA measures for all seven of the statutory goals for the Mentoring Program in addition to the three established core GPRA measures. The commenter also recommended that we award bonus points to programs seeking to address the additional statutory goals.

Discussion: We have established GPRA performance measures that we believe are aligned with what will be typical for most grants, and that will help determine program effectiveness in terms of outcomes. For the Department to be able to report on GPRA measures for this program, grantees must use the same performance measures, and data must be consistently collected and reported across program sites. Offering “optional” performance measures would likely prevent this.

Additionally, evaluating a program that potentially addresses all seven statutory goals is likely to require an extremely complex and rigorous design, which may be very difficult for certain applicants to accomplish, particularly those with limited experience. We do not believe that this is in the best interests of the program. It is not Departmental policy to award “bonus” points; however, this year we are proposing one competitive preference priority under which we will award five additional points to a consortium of eligible applicants, which we believe will be more beneficial as it is likely to result in more diverse and effective programs.

Change: None.

Selection Criteria

Several commenters proposed changes to the selection criteria and/or the points assigned to each scoring factor. The suggestions are grouped according to the specific selection criterion addressed.

Need for the Project

Comment: One commenter recommended that this criterion include, among the students to be served by the project, a focus on students with a history of behavioral and/or academic problems in school.

Discussion: The criterion as drafted is sufficiently broad to permit applicants to discuss behavioral and/or academic problems in school as part of their discussion of the need for the project.

Change: None.

Comment: One commenter recommended increasing to 40 the number of points awarded for need for the project, and awarding remaining points to the other criteria as follows: Quality of the Program Design, 20 points; Quality of the Management Plan, 20 points; Quality of Project Evaluation, 10 points, and Quality of Project Personnel, 10 points. The commenter believes that those communities with the greatest need ought to have the greatest opportunity to receive the benefits of the proposed projects.

Discussion: As with any prevention strategy, mentoring is most effective when programs are based on proven strategies and practice. At a minimum, a well-designed mentoring program should provide clear goals and objectives, as well as strong policies and procedures for the management of all program operations, including volunteer screening, structured activities for mentors and youth, and ongoing training and supervision for all matches. Revising the point values for the selection criteria in the manner recommended would make these critical factors less important in selecting grantees. We believe that it is appropriate to stress the importance of quality program design and management.

Change: None.

Quality of the Project Design

Comment: One commenter recommended having mentors available to students throughout the school day.

Discussion: Applicants are free to propose a level of mentoring services that meets the needs of the students they will serve.

Change: None.

Comment: One commenter recommended moving scoring factors (2)(a) and 2(c) out of Quality of the Project Design and into Quality of the Management Plan, and giving 30 points to the remaining factor 2(b).

Discussion: Scoring factors (2)(a) and (2)(c) are important components of program design and should remain under that heading. They are intended to emphasize the important role each plays in the development of an effective mentoring program.

Change: None.

Comment: One commenter recommended allowing mentoring programs to build to full capacity of mentees over a period of time. Such flexibility would, according to the commenter, permit building a core group of mentees who could assist in introducing other young people to the program.

Discussion: Applicants may propose to phase in the number of mentoring matches over the three-year life of the project.

Change: None.

Comment: One commenter recommended that applicants be required to cite the literature, models, and other program materials used in the development of project design. Another commenter recommended that the selection criteria be expanded to give value to innovative approaches based on new research findings.

Discussion: We agree that a thoughtful conceptual design is important to project success. We have added a scoring factor to the Quality of the Project Design criterion.

Change: We added the following scoring factor to this criterion: The extent to which the design of the proposed project includes a thorough, high-quality review of the relevant literature (including new research), a high-quality plan for project implementation, and the use of appropriate methodological tools to ensure successful achievement of project objectives. (10 points)

The overall point value for this criterion will remain 30 points. To accommodate the additional scoring factor, we have revised the point values for 2(b) and 2(c) from 10 points each to 5 points each.

Comment: One commenter recommended revising this criterion to include the development and maintenance of a program advisory board.

Discussion: We believe that this criterion sufficiently addresses the involvement of parents, teachers, and other community organizations in program implementation. We do not believe that revising the criterion to require the development of an advisory board would materially improve this measure.

Change: None.

Quality of Management Plan

Comment: One commenter recommended that criterion 3(d) be revised to include the phrase “based on the needs of the children.”

Discussion: We believe that this criterion already addresses the extent to which there is a comprehensive plan to match mentors with students, based on the needs of the children.

Change: None.

Comment: One commenter recommended that mentor reference checks include at least one reference from a known community organization or a respected community member.

Discussion: The guidelines for mentor reference checks are minimum requirements directed by the statute. Applicants may propose checks that exceed the minimum, including references from community members or organizations.

Change: None.

Comment: One commenter recommended that we revise the selection criteria to include group mentoring. The commenter believes that a team rather than an individual may sometimes be the best mentor for a child.

Discussion: The authorizing statute calls for one-to-one mentoring relationships, where practicable.

Change: None.

Comment: One commenter recommended that we clearly articulate the requirement for grantees to develop a written policy and procedure manual to guide staff work under their project.

Discussion: The approved grant application, the statute authorizing the program, and applicable regulations govern the conduct of the grant project. Therefore, the proposed policy and procedure manual is not crucial for operation of the program. However, applicants are strongly encouraged to develop written policies and procedures to document how they will carry out their project.

Change: None.

Comment: One commenter recommended that applicants be required to identify clearly the topics to be included in the training provided to mentors, including specific training components that will support academic requirements.

Discussion: Applicants may discuss training topics in relevant sections of their grant application. We intend to provide national training to grantees in order to ensure broad coverage of topics and consistent content.

Change: None.

Comments: One commenter recommended that applicants be required to outline the following: (a) Proposed representative mentor/mentee activities; (b) the balance of school site-based activities versus community-based activities, and (c) how the applicant will bridge gaps in the school year calendar in order to facilitate matches that last 12 or more months.

Discussion: We agree that these are important elements of mentoring projects, and we think that a comprehensive, thorough response to the scoring criteria will elicit this information.

Change: None.

Comment: One commenter recommended that applicants be required to outline initial plans for sustaining the project past the three years of Federal funding.

Discussion: We agree that sustainability is an important consideration. However, rather than assess a potential sustainability plan that may be speculative at best, we believe that it will be more beneficial to work directly with each grantee funded under this program on sustainability as well as on other issues, as a part of the overall training and technical assistance that we will provide.

Change: None.

Quality of Project Personnel

Comment: One commenter recommended that we require the submission of job descriptions for the program coordinators and other key program staff.

Discussion: Resumes, when they are available, demonstrate the skills and experience of key personnel the applicant has available to help implement the project. Job descriptions, on the other hand, indicate the skills and experience the applicant thinks are needed and hopes to acquire. This speculative aspect to job descriptions makes them a less useful tool for assessing the quality of project personnel.

Change: None.

Quality of the Project Evaluation

Comment: One commenter recommended that applicants be required to provide a standard for quality communication between program coordinators and parents, and to include a “Satisfaction Inventory” for participants and parents.

Discussion: The selection criteria are sufficiently broad to permit applicants to use a variety of methods, including satisfaction inventories, as part of their evaluation. We do not think such inventories should be required, because they are measures of how well participants liked the program and not measures of how effective the program is in achieving the established performance objectives established.

Change: None.

Comments: One commenter recommended augmenting local program evaluation through the adoption or adaptation of existing data collection tools to ensure the comparability and generalizability of outcome data across programs. The commenter also recommended that we give consideration to developing a national evaluation framework and provide guidance for implementing the framework locally.

Discussion: We intend to provide technical assistance to grantees on evaluation as well as on other topics throughout the life of the grants.

Change: None.

Use of Funds

Comment: One commenter encouraged flexibility in recompense for mentors, recognizing that not all suitable mentors have the funds to support mentoring activities.

Discussion: The authorizing statute prohibits direct compensation of mentors. Applicants, however, may request funds to pay for allowable activities for the mentors and the children being mentored as part of the mentoring program. These funds must remain under the administrative control of the grantee.

Change: None.

[FR Doc. 04-12208 Filed 5-27-04; 8:45 am]

BILLING CODE 4000-01-P